DEPARTMENT OF LABOR

Employment and Training Administration

[TA-W 55,925]

Lakewood Dyed Yarns, a Subsidiary of Mastercraft Fabrics, LLC; Joan Fabrics Corporation, Cramerton, NC; Notice of Termination of Investigation

Pursuant to Section 221 of the Trade Act of 1974, as amended, an investigation was initiated on November 4, 2004 in response to a petition filed by a company official on behalf of workers at Lakewood Dyed Yarns, a subsidiary of Mastercraft Fabrics, LLC, Joan Fabrics Corporation, Cramerton, North Carolina.

The petitioner has requested that the petition be withdrawn. Consequently, the investigation has been terminated.

Signed at Washington, DC this 15th day of November 2004.
Linda G. Poole,
Certifying Officer, Division of Trade Adjustment Assistance.

[FR Doc. E4-3373 Filed 11-29-04; 8:45 am]

BILLING CODE 4510-30-P